NATIONAL SCIENCE FOUNDATION

Agency Information Collection Activities: Comment Request

AGENCY: National Science Foundation.

ACTION: Submission for OMB Review; Comment Request.

SUMMARY: The National Science Foundation (NSF) has submitted the following information collection requirement to OMB for review and clearance under the Paperwork Reduction Act of 1995, Public Law 104-13. This is the second notice for public comment; the first was published in the Federal Register at 78 FR 40517, and one comment was received. NSF is forwarding the proposed submission to the Office of Management and Budget (OMB) for clearance simultaneously with the publication of this second notice. The full submission (including comments) may be found at: http://www.reginfo.gov/public/do/PRAMain.

Comments: Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725 17th Street NW., Room 10235, Washington, DC 20503, and to Suzanne H. Plimpton, Reports Clearance Officer, National Science Foundation, 4201 Wilson Boulevard, Suite 1265, Arlington, Virginia 22230 or send email to splimpto@nsf.gov. Individuals who use a telecommunications device for the deaf (TDD) may call the Federal Information Relay Service (FIRS) at 1-800-877-8339, which is accessible 24 hours a day, 7 days a week, 365 days a year (including federal holidays).

DATES: Comments regarding these information collections are best assured of having their full effect if received within 30 days of this notification. Copies of the submission(s) may be obtained by calling 703-292-7556.

NSF may not conduct or sponsor a collection of information unless the collection of information displays a currently valid OMB control number and the agency informs potential persons who are to respond to the collection of information that such persons are not required to respond to the collection of information unless it displays a currently valid OMB control number.

SUPPLEMENTARY INFORMATION: Comments: As required by 5 CFR 1320.8(d), comments on the information collection activities as part of this study were solicited through publication of a 60-Day Notice in the Federal Register on July 5, 2013, at 78 FR 40517. We received one comment, to which we here respond.

Commenter: The Center for Equal Opportunity provided the following comment:

We are not sure to what extent (or why) race and ethnicity will play a role in this program, but the references to “minority-serving” institutions, “diversity,” and “underrepresented” groups prompt us to ask that it play as little a role as possible under whatever statutes are applicable. As you know, it is generally illegal for the government to show favoritism or even use classifications based on race or ethnicity. See Adarand Constructors, Inc. v. Pena, 515 U.S. 200, 227 (1995) (“all racial classifications . . . must be analyzed by a reviewing court under strict scrutiny”). See also Title VI of the 1964 Civil Rights Act, 42 U.S.C. 2000d (prohibiting discrimination on the basis of race, color, and national origin in federally funded programs). Indeed, such classifications and favoritism are “presumptively invalid” (see Personnel Administrator v. Feeney, 442 U.S. 256 (1979)).

Response: NSF has standing authority to support activities to improve the participation of women and minorities in science and engineering under the Science and Engineering Equal Opportunities Act (Pub. L. 96-516), and authority to collect data on those issues.

The MRSEC program treats those issues in a Centers appropriate manner. The MRSEC program originates from the transfer of the Interdisciplinary Laboratories (IDLs) created by the Advanced Research Projects Agency in the 1960s. These were transferred to NSF in 1972, and with modifications, evolved into the current MRSEC program, which began in 1994. Under the requirement of all NSF proposals to address “Broader impacts” and authority of Public Law 96-516, information on diversity in the program, after the award has been made, has been collected since the inception of the program. As noted in a 2007 National Academies study, “NSF does not require that specific activities or audiences be targeted by the MRSEC, with the exception of the Research Experience for Undergraduates (REU) program, and a general dictum to broaden participation by underrepresented groups in the STEM field.”

This data collection described in the Federal Register notice is within the scope of NSF's authorization on such collection, and is only about collecting data on activities that exist after an award is made, so there is no favoritism as suggested by the comment.

After consideration of this comment, we are moving forward with our submission to OMB.

Title of Collection: Grantee Reporting Requirements for Materials Research Science and Engineering Centers (MRSECs).

OMB Number: 3145-NEW.

Type of Request: Intent to seek approval to establish an information collection.

Overview of this Information Collection: The Materials Research Science and Engineering Centers (MRSECs) Program supports innovation in interdisciplinary research, education, and knowledge transfer. MRSECs build intellectual and physical infrastructure within and between disciplines, weaving together knowledge creation, knowledge integration, and knowledge transfer. MRSECs conduct world-class research through partnerships of academic institutions, national laboratories, industrial organizations, and/or other public/private entities. New knowledge thus created is meaningfully linked to society.

MRSECs enable and foster excellent education, integrate research and education, and create bonds between learning and inquiry so that discovery and creativity more fully support the learning process. MRSECs capitalize on diversity through participation in center activities and demonstrate leadership in the involvement of groups underrepresented in science and engineering.

MRSECs will be required to submit annual reports on progress and plans, which will be used as a basis for performance review and determining the level of continued funding. To support this review and the management of a Center, MRSECs will be required to develop a set of management and performance indicators for submission annually to NSF via the Research Performance Project Reporting module in Research.gov and an external technical assistance contractor that collects programmatic data electronically. These indicators are both quantitative and descriptive and may include, for example, the characteristics of center personnel and students; sources of financial support and in-kind support; expenditures by operational component; characteristics of industrial and/or other sector participation; research activities; education activities; knowledge transfer activities; patents, licenses; publications; degrees granted to students involved in Center activities; descriptions of significant advances and other outcomes of the MRSEC effort. Such reporting requirements will be included in the cooperative agreement that is binding between the academic institution and the NSF.

Each Center's annual report will address the following categories of activities: (1) Research, (2) education, (3) knowledge transfer, (4) partnerships, (5) shared experimental facilities, (6) diversity, (7) management, and (8) budget issues.

For each of the categories the report will describe overall objectives for the year, problems the Center has encountered in making progress towards goals, anticipated problems in the following year, and specific outputs and outcomes.

MRSECs are required to file a final report through the RPPR and external technical assistance contractor. Final reports contain similar information and metrics as annual reports, but are retrospective.

Use of the Information: NSF will use the information to continue funding of the Centers, and to evaluate the progress of the program.

Estimate of Burden: 185 hours per center for 223 centers for a total of 4,070 hours.

Respondents: Non-profit institutions.

Estimated Number of Responses per Report: One from each of the 22 MRSECs.

Dated: September 11, 2013.
Suzanne H. Plimpton,
Reports Clearance Officer, National Science Foundation.

[FR Doc. 2013-22442 Filed 9-13-13; 8:45 am]

BILLING CODE 7555-01-P